DEPARTMENT OF HEALTH AND HUMAN SERVICES

Agency for Healthcare Research and Quality

Meeting of the Citizens' Health Care Working Group

AGENCY: Agency for Healthcare Research and Quality (AHRQ), HHS.

ACTION: Notice of public meeting.

SUMMARY: In accordance with section 10(a) of the Federal Advisory Committee Act, this notice announces a meeting of the Citizens' Health Care Working Group (the Working Group) mandated by section 1014 of the Medicare Modernization Act.

DATES: The business meeting of the Working Group will be held on Wednesday, January 18, 2006, from 9 a.m. to 4:30 p.m. and Thursday, January 19, 2006 from 9 a.m. to 2 p.m.

ADDRESSES: The meeting will take place in the conference room of the United Food and Commercial Workers International Union, in Washington, DC. The office is located at 1775 K Street NW. The main receptionist area is located on the 7th floor; the conference room is located on the 11th floor.

The meeting is open to the public.

FOR FURTHER INFORMATION CONTACT: Caroline Taplin, Citizens' Health Care Working Group, at (301) 443-1514 or ctaplin@ahrq.gov. If sign language interpretation or other reasonable accommodation for a disability is needed, please contact Mr. Donald L. Inniss, Director, Office of Equal Employment Opportunity Program, Program Support Center, on (301) 443-1144.

The agenda for this Working Group meeting will be available on the Citizens' Working Group Web site, www.citizenshealthcare.gov. Also available at that site is a roster of Working Group members. When summaries of the meeting are completed, they will also be available on the Web site.

SUPPLEMENTARY INFORMATION: Section 1014 of Pub. L. 108-173, (known as the Medicare Modernization Act) directs the Secretary of the Department of Health and Human Servcies (DHHS), acting through the Agency for Healthcare Research and Quality, to establish a Citizens' Health Care Working Group (Citien Group). This statutory provision, codified at 42 U.S.C. 299 n., directs the Working Group to: (1) Identify options for changing our health care system so that every American has the ability to obtain quality, affordable health care coverage; (2) provide for a nationwide public debate about improving the health care system; and (3) submit its recommendations to the President and the Congress.

The Citizens' Health Care Working Group is composed of 15 members: the Secretary of DHHS is designated as a member by statute and the Comptroller General of the U.S. Government Accountability Office (GAO) was directed to name the remaining 14 members whose appointments were announced on February 28, 2005.

Working Group Meeting Agenda

The Working Group business meeting on January 18th and 19th will be devoted to ongoing Working Group business. Topics to be addressed are expected to include: an update on community meetings; background information on public perceptions on health care quality and efficiency; discussion of data from various sources including community meetings, Web site questions, Web casts, the citizen survey and other sources of public input; and broad concepts relating to the Working Group's recommendation report.

Submission of Written Information

The Working Group invites written submissions on those topics to be addressed at the Working Group business meetings listed above. In general, individuals or organizations wishing to provide written information for consideration by the Citizens' Health Care Working Group should submit information electronically to citizenshealth@ahrq.gov. Since all electronic submissions will be posted on the Working Group Web site, separate submissions by topic will facilitate review of ideas submitted on each topic by the Working Group and the public.

This notice is published less than 15 days in advance of the meeting due to logistical difficulties.

Dated: December 30, 2005.
Carolyn M. Clancy,
Director.

[FR Doc. 06-91 Filed 1-5-06; 8:45 am]

BILLING CODE 4160-90-M